DEPARTMENT OF COMMERCE

National Oceanic and Atmospheric Administration

RIN 0648-XD608

Endangered Species; File No. 19255

AGENCY: National Marine Fisheries Service (NMFS), National Oceanic and Atmospheric Administration (NOAA), Commerce.

ACTION: Notice; receipt of amended application.

SUMMARY: Notice is hereby given that the Delaware Department of Natural Resources and Environmental Control (DENREC) [Responsible Party: Michael Stangl], 3002 Bayside Dr., Dover, Delaware 19977, has submitted a revised application for a permit to take shortnose sturgeon (Acipenser brevirostrum) and Atlantic sturgeon (Acipenser oxyrinchus oxyrinchus) in the Delaware River for purposes of scientific research.

DATES: Written, telefaxed, or email comments must be received on or before July 27, 2015.

ADDRESSES: The application and related documents are available for review by selecting “Records Open for Public Comment” from the “Features” box on the Applications and Permits for Protected Species (APPS) home page, https://apps.nmfs.noaa.gov, and then selecting File No. 19255 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No.19255 in the subject line of the email comment.

Those individuals requesting a public hearing should submit a written request to the Chief, Permits and Conservation Division at the address listed above. The request should set forth the specific reasons why a hearing on the application(s) would be appropriate.

FOR FURTHER INFORMATION CONTACT: Malcolm Mohead or Rosa L. González, (301) 427-8401.

SUPPLEMENTARY INFORMATION: On November 17, 2014, notice was published (79 FR 68413) of a request for a permit under the authority of the Endangered Species Act of 1973, as amended (ESA; 16 U.S.C. 1531 et seq.) and the regulations governing the taking, importing, and exporting of endangered and threatened species (50 CFR parts 222-226).

The applicant had previously proposed annual takes of 50 endangered shortnose sturgeon (Acipenser brevirostrum), capturing them with gillnets, weighing, measuring to total length (TL), examining for tags, marking with Passive Integrated Transponder (PIT) tags, and T-bar tags, genetic tissue sampling, photographing, and releasing. Up to 15 juvenile shortnose sturgeon (≤500 mm TL) were requested to also be anesthetized and surgically implanted with acoustic transmitters, and then tracked with receivers to document juvenile nursery areas, individual movement patterns, seasonal movements, home ranges, and habitat usage in the tidally influenced portion of the Delaware River between river kilometers 119 and 148. A single unintentional mortality of a shortnose sturgeon was requested throughout the life of the 5-year permit.

The applicant has now amended the application, asking that the permit authorize 50 juvenile (≤500 mm TL) and 10 adult/sub-adult (>500 mm TL) shortnose sturgeon annually. Additionally, a total of 265 juvenile (≤600mm TL) and 10 adult/sub-adult (>600 mm TL) Atlantic sturgeon (Acipenser oxyrinchus oxyrinchus) taken annually are added to the permit request. Each Atlantic sturgeon would be weighed, measured, examined for tags, marked with Passive Integrated Transponder (PIT) tags, and T-bar tags, genetic tissue sampled, and photographed. A subset of 30 juvenile Atlantic sturgeon would be anesthetized and implanted with acoustic transmitters; a subset of 30 juvenile Atlantic sturgeon would be anesthetized and gastric lavaged for diet analysis; and another subset of 30 Atlantic sturgeon would be anesthetized and fin ray sampled for age analysis. The applicant requests one annual unintentional mortality of an adult, sub-adult or juvenile Atlantic sturgeon, but no more than two adults or sub-adults over the life of the permit. As some of these takes are now authorized for the applicant in a separate scientific research permit (Permit No. 16431), if the new permit is issued as proposed, Permit No. 16431 would then be terminated. Please refer to the table in the amended application for the numbers of animals proposed for taking, and the locations and manner of such taking.

Dated: June 23, 2015.
Julia Harrison,
Chief, Permits and Conservation Division, Office of Protected Resources, National Marine Fisheries Service.

[FR Doc. 2015-15774 Filed 6-25-15; 8:45 am]

BILLING CODE 3510-22-P